CONSUMER PRODUCT SAFETY COMMISSION

Sunshine Act Meeting

TIME AND DATE: 10 a.m., Tuesday, October 23, 2001.

LOCATION: Room 420, East West Towers, 4330 East-West Highway, Bethesda, Maryland.

STATUS: Open to the Public.

Matter to be Considered:

Purchaser Identification Card Program (ANPR): The staff will brief the Commission on a staff's recommendation to issue an advance notice of proposed rulemaking (ANPR) concerning a program that would require purchaser identification cards with certain consumer products.

For a recorded message containing the latest agenda information, call (301) 504-0709.

CONTACT PERSON FOR ADDITIONAL INFORMATION: Todd A. Stevenson, Office of the Secretary, 4330 East-West Highway, Bethesda, MD 20207 (301) 504-0800.

Dated: October 12, 2001.
Todd A. Stevenson,
Acting Secretary.

[FR Doc. 01-26275 Filed 10-15-01; 12:51 pm]

BILLING CODE 6355-01-M